DEPARTMENT OF ENERGY

Federal Energy Regulatory Commission

[Docket No. CP01-176-000, Docket No. CP01-179-000]

Georgia Strait Crossing Pipeline LP; Notice of Intent To Prepare an Environmental Impact Statement for the Proposed Georgia Strait Crossing Project, Request for Comments on Environmental Issues, and Notice of Public Scoping Meetings and Site Visit

June 1, 2001.

The staff of the Federal Energy Regulatory Commission (FERC or Commission) will prepare an environmental impact statement (EIS) that will discuss the environmental impacts of Georgia Strait Crossing Pipeline LP's (GSX-US) proposed Georgia Strait Crossing (GSX) Project in Whatcom and San Juan Counties, Washington.¹ The proposed facilities would transport natural gas from existing pipeline systems near Sumas, Washington to the United States/Canada border in Boundary Pass.² The GSX Project would involve the construction and operation of about 47 miles of 20- and 16-inch-diameter pipeline and a new 10,302-horsepower (hp) compressor station. The FERC will use this EIS in its decision making process to determine whether the project is in the public convenience and necessity.

¹ GSX-US' applications in Docket Nos. CP01-176-000 and CP01-179-000 were filed with the Commission under sections 7(c) and 3 of the Natural Gas Act respectively.

² Georgia Strait Crossing Pipeline Ltd (GSX-Canada) proposes to construct a pipeline to transport the natural gas delivered to the Canadian border by GSX-US to Vancouver Island for use in new power plants. This proposal is currently under review by the National Energy Board in Canada. The location of the Canadian facilities is shown in Appendix 1.

If you are a landowner receiving this notice, you may be contacted by a GSX-US representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” should have been attached to the project notice GSX-US provided to landowners. This fact sheet addresse a number of typically asked questions, including the use of eminent domain and how to participate in the Commission's proceedings. The fact sheet is available for viewing on the FERC Internet website (www.fer.gov).

This notice is being sent to affected landowners along GSX-US' proposed route; Federal, state, and local government agencies; elected officials; environmental and public interest groups; Indian tribes that might attach religious and cultural significance to historic properties in the area of potential effect; local libraries and newspapers; and the Commission's list of parties to the proceeding. We ³ encourage government representatives to notify their constituents of this proposed action and encourage them to comment on their areas of concern. Additionally, with this notice we are asking other Federal, state, local, and tribal agencies with jurisdiction and/or special expertise with respect to environmental issues in the project area to cooperate with us in the preparation of the EIS. These agencies may choose to participate once they have evaluated GSX-US' proposal relative to their responsibilities. Agencies who would like to request cooperating status should follow the instructions for filing comments described later in this notice.

³ “We,” “us,” “our” refer to the staff of the FERC's Office of Energy Projects.

Summary of the Proposed Project

The GSX Project would transport 94,000 decatherms per day of natural gas from proposed interconnect facilities with the existing Westcoast Energy Inc. pipeline at the United States/Canada border and Northwest Pipeline Corporation (Northwest) pipeline near Sumas, Washington to an interconnect with a pipeline proposed by GSX-Canada in Boundary Pass.

GSX-US' proposed action consists of the construction and operation of:

• Pipeline interconnect facilities between the proposed GSX system and the existing Westcoast Energy Inc. system at the international border between the United States and Canada, including a receipt point meter station and 500 feet of 20-inch-diameter upstream piping located adjacent to Northwest's existing Sumas Compressor Station in Whatcom County, Washington (additional metering facilities would be installed at the same location to provide for a secondary source of gas from the Northwest system);

• About 32 miles of 20-inch-diameter pipeline extending from the interconnect facilities at the international border between the United States and Canada near Sumas, Washington, across Whatcom County, to a new compressor station (Cherry Point Compressor Station) near Cherry Point, Washington;

• A new compressor station (GSX Cherry Point Compressor Station) consisting of one 10,302-hp two-stage compressor package near Cherry Point, Washington;

• About 1 mile of 16-inch-diameter pipeline extending from the GSX Cherry Point Compressor Station to the beginning of the marine portion of the pipeline at the edge of the Strait of Georgia; and

• About 14 miles of 16-inch-diameter marine pipeline extending from the edge of the Strait of Georgia near Cherry Point, Washington to the edge of the international border between the United States and Canada at a point about midway between the west end of Patos Island (Washington) and the east end of Suturna Island (British Columbia) in Boundary Pass.

The general location of the major project facilities is shown in appendices 1 and 2.⁴

⁴ The appendices referenced in this notice are not being printed in the Federal Register. Copies are available on the Commission's website at the “RIMS” link or from the Commission's Public Reference and Files Maintenance Branch, 888 First Street, NE., Room 2A, Washington, DC 20426, or call (202) 208-1371. For instructions on connecting to RIMS, refer to the last page of this notice. Copies of the appendices were sent to all those receiving this notice in the mail.

Because the project involves siting, constructing, operating, and maintaining pipeline facilities at the international border between the United States and Canada, GSX-US requested a Presidential Permit in Docket No. CP01-179-000.

The GSX Project is scheduled to be in service by late October 2003. Preliminary construction activities, including work at the GSX Cherry Point Compressor Station and the shoreline horizontal directional drill segment, are scheduled to take place during the late summer/fall of 2002. Construction of the majority of the project facilities, including the onshore and offshore pipeline segments and the aboveground facilities, would be completed during the spring/summer/fall of 2003. The approximate duration of construction would be 200 to 250 days for the compressor station and 90 to 150 days for the pipeline.

Land Requirement for Construction

Construction of onshore pipeline facilities would affect a total of about 410 acres of land in Whatcom County, Washington. Following construction, about 200 acres would be retained as permanent right-of-way. The remaining 210 acres of temporary work space would be restored and allowed to revert to former use.

GSX-US proposes to use a 100-foot-wide construction right-of-way unless topography or other conditions require modifications. In addition to the 100-foot-wide construction right-of-way, temporary extra workspace would be necessary at most improved road and railroad crossings, for side hill cuts, areas requiring deeper burial, and additional spoil storage areas. A 50-foot-wide permanent right-of-way would be acquired. About 74 percent of the onshore pipeline route would parallel existing pipeline, road, railroad, or powerline rights-of-way.

GSX-US indicates that construction of its offshore pipeline facilities would disturb about 46 acres. Based on a 3-foot-wide permanent marine right-of-way, GSX-US estimates that the offshore permanent right-of-way would be 5.1 acres.

The GSX-US receipt point facilities would be constructed on 17.9 acres of land of which 10.0 acres would be within Northwest's existing Sumas Compressor Station site. The GSX Cherry Point Compressor Station would be constructed on a 9.6-acre site. Valves and valve access roads (outside of the compressor station and interconnect sites) would occupy 1.6 acres, of which all but 0.3 acre would be within the construction area for the pipeline facilities.

Disturbances related to modifying access roads for pipeline construction would affect about 7.2 acres. Pipe storage/contractor yard or rail sidings would occupy 68.6 acres, of which 41.9 acres have been previously disturbed for other uses. Additional temporary work areas for the horizontal directional drill at Cherry Point would include 24.3 acres of which 8.9 acres would be within the Gulf Road right-of-way.

The EIS Process

The National Environmental Policy Act (NEPA) requires the Commission to take into account the environmental impacts that could result from an action whenever it considers the issuance of a Certificate of Public Convenience and Necessity. NEPA also requires us to solicit and address concerns the public may have about proposals. We call this “scoping.” The main goal of the scoping process is to focus the EIS on the important environmental issues. By this Notice of Intent, the Commission requests public comments on the scope of issues it will address in the EIS. All comments received are considered during the preparation of the EIS.

Our independent analysis of the issues will be in the Draft EIS, which will be mailed to Federal, state, and local agencies; elected officials; environmental and public interest groups; affected landowners and other interested individuals; Indian tribes; newspapers; libraries; and the Commission's official service list for this proceeding. A 45-day comment period will be allotted for review of the Draft EIS. We will consider all comments on the Draft EIS and revise the document, as necessary, before issuing a Final EIS. The Final EIS will include our response to each comment received on the Draft EIS and will be used by the Commission in its decision-making process to determine whether to approve the project.

Currently Identified Environmental Issues

We have already identified several issues that we think deserve attention based on a preliminary review of the proposed facilities and the environmental information provided by GSX-US. This preliminary list of issues may be changed based on your comments and our analysis.

• The area has a history of seismic activity.

• A total of 42 perennial or intermittent waterbodies (onshore) and the Strait of Georgia would be crossed.

• The project would cross commercial and recreational fisheries.

• The project may affect four federally listed threatened or endangered speciies and six species of special concern.

• The project may cross areas with significance to Native Americans.

• Construction would disturb 288 acres of agricultural land, 66 acres of non-forested open space, 47 acres of woodland, and 7 acres of developed land in Whatcom County, Washington.

• Construction would interfere with ship navigation, commercial fishing, and recreational boating in the Georgia Strait.

• The project crosses the Cherry Point State Aquatic Reserve.

• The GSX Cherry Point Compressor Station would have an impact on air quality and the noise environment of the area.

Public Participation, Scoping Meetings, and Site Visit

You can make a difference by providing us with your specific comments or concerns about the project. By becoming a commentor, your concerns will be addressed in the EIS and considered by the Commission. You should focus on the potential environmental effects of the proposal, alternatives to the proposal (including alternative locations and routes), and measures to avoid or lessen environmental impact. The more specific your comments, the more useful they will be. Please carefully follow these instructions to ensure that your comments are received in time and properly recorded.

• Send an original and two copies of your letter to: David P. Boergers, Secretary, Federal Energy Regulatory Commission, 888 First Street, NE., Room 1A, Washington, DC 20426;

• Refer to Docket No. CP01-176-000;

• Label one copy of your comments for the attention of the Gas Group 2, PJ-11.2; and

• Mail your comments so that they will be received in Washington, DC on or before July 5, 2001.

Comments may also be filed electronically via the internet in lieu of paper. See 18 CFR 385.2001(a)(1)(iii) and the instructions on the Commission's website at http://www.ferc.gov under the “e-Filing” link and the link to the User's Guide. Before you can file comments you will need to create an account by clicking on “Login to File” and then “New User Account.”

Everyone who responds to this notice or comments throughout the EIS process will be retained on our mailing list. If you do not want to send comments at this time but still want to keep informed and receive copies of the Draft and Final EIS, please return the Information Request (appendix 4). You must send comments or return the Information Request for your name to remain on the mailing list.

In addition to or in lieu of sending written comments, we invite you to attend the public scoping meetings that the FERC will conduct in the project area. The locations and times for these meetings are listed below.

• Tuesday, June 26, 2001, 7:00 p.m.—Lynden High School (cafeteria), 1201 Bradley Road, Lynden, Washington 98264, (360) 354-4401.

• Thursday, June 28, 2001, 7:00 p.m.—Senior Services San Juan Center, 589 Nash Street, Friday Harbor, Washington 98250, (360) 378-9102.

The public scoping meetings are designed to provide you with more detailed information and another opportunity to offer your comments on the proposed project. GSX-US representatives will be present at the scoping meetings to describe their proposal. Interested groups and individuals are encouraged to attend the meetings and to present comments on the environmental issues they believe should be addressed in the Draft EIS. A transcript of each meeting will be prepared so that your comments will be accurately recorded.

On Wednesday, June 27, 2001, our staff will also be visiting some project areas. The meeting location for the site visit will be announced at the Lynden scoping meeting. Anyone interested in participating in a site visit may contact the Commission's Office of External Affairs at (202) 208-1088 for more details and must provide their own transportation.

Becoming an Intervenor

In addition to involvement in the EIS scoping process, you may want to become an official party to the proceeding, known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 3).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered.

Availability of Additional Information

Additional information about the proposed project is available from the Commission's Office of External Affairs at (202) 208-1008 or on the FERC website (www.ferc.gov) using the “RIMS” link to information in this docket number. Click on the “RIMS” link, select “Docket#” from the RIMS Menu, and follow the instructions. For assistance the RIMS helpline can be reached at (202) 208-2222.

Similarly, the “CIPS” link on the FERC Internet website provides access to the texts of formal documents issued by the Commission, such as orders, notices, and rulemakings. From the FERC Internet website, click on the “CIPS” link, select “Docket#” from the CIPS Menu, and follow the instructions. For assistance the CIPS helpline can be reached at (202) 208-2474.

David P. Boergers,
Secretary.

[FR Doc. 01-14338 Filed 6-6-01; 8:45 am]

BILLING CODE 6717-01-M